DEPARTMENT OF ENERGY

Federal Energy Regulatory Commission

[Docket No. AD08-13-000]

Transmission Barriers to Entry; Supplemental Notice of Technical Conference

October 3, 2008.

On September 24, 2008, the Commission issued a Notice (September 24 Notice) scheduling a technical conference in the above-captioned proceeding. As stated in the September 24 Notice, this conference is to explore barriers to transmission development. The technical conference will be held on October 14, 2008, from 1 p.m. to 5 p.m. (EST), in the Commission Meeting Room at the Federal Energy Regulatory Commission, 888 First Street, NE., Washington, DC 20426. The conference will be open for the public to attend and advance registration is not required. Members of the Commission may attend the conference.

If any changes occur, the revised agenda will be posted on the calendar page for this event on the Commission's Web site, http://www.ferc.gov, prior to the event.

A free Webcast of this event is available through http://www.ferc.gov. Anyone with internet access who desires to view this event can do so by navigating to the Calendar of Events at http://www.ferc.gov and locating this event in the Calendar. The event will contain a link to its Webcast. The Capitol Connection provides technical support for the free Webcasts. It also offers access to this event via television in the Washington, DC area and via phone-bridge for a fee. If you have any questions, visit http://www.CapitolConnection.org or contact Danelle Springer or David Reininger at (703) 993-3100.

All interested persons may file written comments following the technical conference on or before November 13, 2008.

Commission conferences are accessible under section 508 of the Rehabilitation Act of 1973. For accessibility accommodations, please send an e-mail to accessibility@ferc.gov or call toll free 1-866-208-3372 (voice) or 202-208-1659 (TTY), or send a FAX to 202-208-2106 with the required accommodations.

For more information about this conference, please contact: Katie Detweiler, 202-502-6424, katie.detweiler@ferc.gov or Sarah McKinley, 202-502-8368, sarah.mckinley@ferc.gov.

Nathaniel J. Davis, Sr.,
Deputy Secretary.

[FR Doc. E8-24277 Filed 10-10-08; 8:45 am]

BILLING CODE 6717-01-P